DEPARTMENT OF HOMELAND SECURITY

Coast Guard

[USCG-2004-18077]

Loran-C Transmitting Station Port Clarence Proposed Relocation

AGENCY: Coast Guard, DHS.

ACTION: Notice; request for comments.

SUMMARY: The United States Coast Guard is considering relocating its Loran-C operations from Port Clarence, Alaska (7960-Z/9990-Y) to Nome, Alaska. This proposal could alter the operations and coverage provided by the North Pacific (9990) and Gulf of Alaska (7960) Loran-C chains. The Coast Guard requests input on any concerns that the public may have related to the possible impact on Loran-C usage.

DATES: Comments and related material must reach the Docket Management Facility on or before September 21, 2004.

ADDRESSES: To make sure your comments and related material are not entered more than once in the docket, please submit them by only one of the following means:

(1) By mail to the Docket Management Facility, (USCG-2004-18077), U.S. Department of Transportation, Room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice, contact LTJG Mark E. Moriarty, Project Manager, Office of Aids to Navigation, telephone (202) 267-6538, e-mail MMoriarty@comdt.uscg.mil. If you have questions on viewing or submitting material to the docket, call Andrea M. Jenkins, Program Manager, Docket Operations, telephone 202-366-0271.

You may obtain a copy of this notice by calling the U.S. Coast Guard Infoline at 1-800-368-5647 or read it on the Internet on the Coast Guard Navigation Center Web Site at http://www.navcen.uscg.gov or at http://dms.dot.gov.

SUPPLEMENTARY INFORMATION:

Background

The Coast Guard Loran-C system is a low frequency hyperbolic radionavigation system. A Loran-C receiver measures the slight difference in time it takes for pulsed signals to reach a ship or aircraft from the transmitting stations within a Loran-C chain to develop a navigational position. Port Clarence is a USCG Loran-C Station, whose sole purpose is to maintain and operate the Loran-C equipment providing electronic navigation signals supporting maritime and aviation uses in Alaska. Port Clarence was constructed in the early 1960's as one of the first generation of Loran-C stations. The station is located on 2,646 acres of land on Point Spencer, a 12-mile long gravel spit extending into the Bering Sea at the west end of Alaska's Seaward Peninsula. Loran-C station Port Clarence's remote location requires the Coast Guard to generate their own electrical power, maintain large fuel tanks, maintain aging buildings and equipment, and fly in provisions for station equipment and personnel. In an effort to reduce operating costs, the Coast Guard is considering relocating the Loran-C Station to Nome, Alaska where commercial power and daily commercial flights are available. If the Loran-C station is built in Nome it will be equipped with the latest Loran-C technology and optimized for minimal staffing.

Impact to 9990 and 7960 Loran-C Coverage

Disestablishing Loran-C Station Port Clarence and establishing a new Loran-C Station in the Nome, Alaska area will likely affect the public's usage of Loran-C. While the coverage area provided by the 9990 and 7960 Loran-C chains will vary only slightly, users will no longer be able to use the 9990-Y or 7960-Z baselines without having their receivers reprogrammed to reflect the changes in latitude and longitude. It is possible that receivers that are not reprogrammed could provide hazardously misleading information to the user. In addition, timing users will need to determine a new reference value due to the new geographic location of the station.

Diagrams of the proposed change in coverage can be viewed at http://www.navcen.uscg.gov as well as in the docket for this notice at http://dms.dot.gov.

Request for Comments

We encourage you to participate in this request for comments by submitting comments and related material on the impact that this proposal may have on the use of Loran-C by the public. If you do so, please include your name and address and identify the docket number for this notice (USCG-2004-18077). You may submit your comments and material by mail, hand-delivery, fax, or electronic means to the Docket Management Facility at the address under ADDRESSES; but please submit your comments and material by only one means. If you submit them by mail or hand-delivery, submit them in an unbound format, no larger than 8½ by 11 inches, suitable for copying and electronic filing. If you submit them by mail and would like to know they reached the Facility, please enclose a stamped, self-addressed postcard or envelope. We will consider all comments and material received during the comment period.

All comments received will be posted without change, to http://dms.dot.gov and will include any personal information you have provided. We have an agreement with the Department of Transportation (DOT) to use the Docket Management Facility. Please see DOT's “Privacy Act” paragraph below.

Viewing Comments and Documents

To view comments, as well as documents mentioned in this preamble as being available in the docket, go to http://dms.dot.gov at any time and conduct a simple search using the docket number USCG-2004-18077. You may also visit the Docket Management Facility in room PL-401 on the Plaza level of the Nassif Building, 400 Seventh Street SW., Washington, DC, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meeting

We do not now plan to hold a public meeting. But you may submit a request for one to the Docket Management Facility at the address under ADDRESSES explaining why one would be beneficial. If we determine that a public meeting would be beneficial, we will hold one at a time and place announced by a later notice in the Federal Register.

Next Steps for This Project

At this time, the Coast Guard is seeking comments only with respect to the impact on Loran-C changes. After this has been considered, should the Coast Guard choose to continue with this proposed action, we would prepare an Environmental Assessment. If an Environmental Assessment is prepared, we will publish notice of its availability in the Federal Register.

Dated: June 17, 2004.
J.W. Underwood,
Rear Admiral, U.S. Coast Guard, Director of Operations Policy.

[FR Doc. 04-14200 Filed 6-22-04; 8:45 am]

BILLING CODE 4910-15-P